DEPARTMENT OF COMMERCE

National Oceanic and Atmospheric Administration

RIN 0648-XF684

Pacific Fishery Management Council; Public Meeting

AGENCY: National Marine Fisheries Service (NMFS), National Oceanic and Atmospheric Administration (NOAA), Commerce.

ACTION: Notice of public meeting (webinar).

SUMMARY: The Groundfish Subcommittee of the Pacific Fishery Management Council's (Pacific Council's) Scientific and Statistical Committee (SSC) will hold a meeting via webinar to review analyses informing 2019 and 2020 groundfish harvest specifications and other matters that will be considered at the November 14-20, 2017 Pacific Council meetings in Costa Mesa, California. The webinar meeting is open to the public.

DATES: The SSC Groundfish Subcommittee webinar will be held Thursday, September 28, 2017 from 8:30 a.m. to 10 a.m., and 1 p.m. to 5:30 p.m. (Pacific Daylight Time) or until business for the day has been completed.

ADDRESSES: The SSC's Groundfish Subcommittee meeting will be held by webinar. To attend the webinar, (1) join the meeting by visiting this link http://www.gotomeeting.com/webinar; (2) enter the webinar ID: 975-440-411, and (3) enter your name and email address (required). After logging into the webinar, please (1) dial this TOLL number: 1-631-992-3221 (not a toll-free number); (2) enter the attendee phone audio access code: 214-350-817; and (3) then enter your audio phone pin (shown after joining the webinar). Note: We have disabled mic/speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the https://www.gotomeeting.com/webinar/ipad-iphone-android-webinar-apps). You may send an email to Mr. Kris Kleinschmidt at Kris.Kleinschmidt@noaa.gov or contact him at 503-820-2280, extension 411 for technical assistance. A public listening station will also be available at the Pacific Council office.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC Groundfish Subcommittee meeting is to review a new yelloweye rockfish rebuilding analysis, and review new data-limited estimates of overfishing limits (OFLs) for cowcod in the Monterey area, starry flounder, gopher rockfish off California, greenspotted rockfish north of 42°N. lat., blue and deacon rockfishes south of 34°27′ N. lat., blue and deacon rockfishes off Washington, and cabezon off Washington. Some of these data-limited OFLs may be reviewed and resolved by the SSC at the September 11-18, 2017 meeting in Boise, ID. If not, then the full suite of OFLs listed above will be reviewed by the SSC Groundfish Subcommittee at this September 28 webinar meeting. Additionally, the SSC Groundfish Subcommittee will review a paper addressing conditions placed on the west coast bottom trawl groundfish fishery for shortraker rockfish, silvergray rockfish, and California skate by the Marine Stewardship Council.

No management actions will be decided by the SSC's Groundfish Subcommittee. The SSC Groundfish Subcommittee members' role will be development of recommendations and reports for consideration by the SSC and Pacific Council at the November meeting in Costa Mesa, CA.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the SSC Groundfish Subcommittee to take final action to address the emergency.

Special Accommodations

These meetings are physically accessible to people with disabilities. Requests for sign language interpretation or other auxiliary aids should be directed to Mr. Kris Kleinschmidt (503) 820-2411 at least 10 days prior to the meeting date.

Dated: September 7, 2017.
Jeffrey N. Lonergan,
Acting Deputy Director, Office of Sustainable Fisheries, National Marine Fisheries Service.

[FR Doc. 2017-19318 Filed 9-11-17; 8:45 am]

BILLING CODE 3510-22-P